GENERAL SERVICES ADMINISTRATION

41 CFR Parts 101-46 and 102-39

[FPMR Amendment H-208]

RIN 3090-AH23

Replacement of Personal Property Pursuant to the Exchange/Sale Authority

Correction

In final rule document 01-23553 beginning on page 48614 in the issue of Friday, September 21, 2001, make the following correction:

On page 48616, in the first column, in the last line, “(1) Vessels” should read, “(l) Vessels”.

[FR Doc. C1-23553 Filed 10-4-01; 8:45 am]

BILLING CODE 1505-01-D

DEPARTMENT OF HEALTH AND HUMAN SERVICES

Centers for Medicare & Medicaid Services

[CMS-1175-N]

RIN 0938-ZA08

Medicare Program; Hospice Wage Index Fiscal Year 2002

Correction

In notice document 01-23820 beginning on page 49454 in the issue of Thursday, September 27, 2001, make the following correction:

On page 49463, in the Wage Index column, the fifth entry, “1.05423” should read, “1.0543”.

[FR Doc. C1-23820 Filed 10-4-01; 8:45 am]

BILLING CODE 1505-01-D

DEPARTMENT OF LABOR

Employment and Training Administration

20 CFR Part 655

RIN 1205-AB30

Labor Cerifications and Petition Process for the Temporary Emplyment of Nonimmigrant Aliens in Agriculture in the United States; Delegation of Authority To Adjudicate Petitions; Deferral of Effective Date

Correction

In interim final rule document 01-24208 beginning on page 49275 in the issue of Thursday, September 27, 2001, make the following correction:

On page 49276, in the second column, in the 16th line, “October 27, 2002.” should read, “September 27, 2002.”

[FR Doc. C1-24208 Filed 10-4-01; 8:45 am]

BILLING CODE 1505-01-D

OFFICE OF SPECIAL COUNSEL

Privacy Act of 1974, System of Records

Correction

In notice document 01-17418 beginning on page 36611 in the issue of Thursday, July 12, 2001, make the following corrections:

1. On page 36612, in the second column, in the DATES section, beginning in the fifth line, “[30 days after publication of this notice]” should read, “August 13, 2001”.

2. On page 36613, beginning in the second column, the last paragraph, paragragh r. should read:

“r. To disclose information to the U.S. Department of Labor (DOL) about OSC's referral of a complaint alleging a violation of veterans preference requirements to DOL for further action under the Veterans' Employment Opportunities Act of 1998; to disclose information to DOL or any agency or person as needed to develop relevant information about matters referred by DOL to OSC under 38 U.S.C. 4324 (the Uniformed Services Employment and Reemployment Rights Act of 1994); to disclose information to DOL or any agency or person as needed to advise on the status or disposition of matters referred by DOL to OSC for disciplinary action under 5 U.S.C. 1215, or litigation under 38 U.S.C. 4324.”

[FR Doc. C1-17418 Filed 10-4-01; 8:45 am]

BILLING CODE 1505-01-D

SECURITIES AND EXCHANGE COMMISSION

[Securities Exchange Act of 1934 Release No. 44791]

Emergency Order Pursuant to Section 12(k)(2) of the Securities Exchange Act of 1934 Taking Temporary Action to Respond to Market Developments

September 14, 2001.

Correction

In notice document 01-23463 beginning on page 48494 in the issue of Thursday, September 20, 2001, make the following correction:

On page 48494, in the second column, the Release No. should read as set forth above.

[FR Doc. C1-23463 Filed 10-4-01; 8:45 am]

BILLING CODE 1505-01-D

SECURITIES AND EXCHANGE COMMISSION

[Securities Exchange Act of 1934 Release No. 44828/September 21, 2001]

Order Extending Emergency Order Pursuant to Section 12(k)(2) of the Securities Exchange Act of 1934 Taking Temporary Action to Respond to Market Developments Concerning the American Stock Exchange LLC

Correction

In notice document 01-24186 appearing on page 49438 in the issue of Thursday, September 27, 2001 make the following correction:

On page 49438, in the second column, the Release No. and subject title should read as set forth above.

[FR Doc. C1-24186 Filed 10-4-01; 8:45 am]

BILLING CODE 1505-01-D

SECURITIES AND EXCHANGE COMMISSION

[Investment Company Act of 1940 Release No. 25165/September 21, 2001]

Order Extending Prior Order Under Sections 6(c), 17(b)and 38(a) of the Investment Company Act of 1940 Granting Exemptions From Certain Provisions of the Act and Certain Rules Thereunder

Correction

In notice document 01-24189 beginning on page 49437 in the issue of Thursday, September 27, 2001, make the following correction:

On page 49437, in the third column, the Release No. and subject title should read as set forth above.

[FR Doc. C1-24189 Filed 10-4-01; 8:45 am]

BILLING CODE 1505-01-D

SECURITIES AND EXCHANGE COMMISSION

[Securities Exchange Act of 1934 Release No. 44827/September 21, 2001]

Order Extending Emergency Order Pursuant to Section 12(k)(2) of the Securities Exchange Act of 1934 Taking Temporary Action to Respond to Market Developments

Correction

In notice document 01-24188 beginning on page 49438 in the issue of Thursday, September 27, 2001, make the following correction:

On page 49438, in the third column, the Release No. and subject title should read as set forth above.

[FR Doc. C1-24188 Filed 10-4-01; 8:45 am]

BILLING CODE 1505-01-D